DEPARTMENT OF THE INTERIOR

Bureau of Land Management

[WY-923-1310-FI; WYW164359]

Notice of Proposed Reinstatement of Terminated Oil and Gas Lease, Wyoming

AGENCY: Bureau of Land Management, Interior.

ACTION: Notice.

SUMMARY: Under the provisions of the Mineral Lands Leasing Act of 1920, as amended, and Bureau of Land Management (BLM) regulations, the BLM received a petition for reinstatement from Western American Resources, LLC and East Resources, Inc. for competitive oil and gas lease WYW164359 for land in Goshen County, WY. The petition was filed on time and was accompanied by all the rentals due since the date the lease terminated under the law.

FOR FURTHER INFORMATION CONTACT: Bureau of Land Management, Julie L. Weaver, Chief, Branch of Fluid Minerals Adjudication, at (307) 775-6176.

SUPPLEMENTARY INFORMATION: The lessee has agreed to the amended lease terms for rentals and royalties at rates of $10 per acre or fraction thereof, per year and 16⅔ percent, respectively. The lessee has paid the required $500 administrative fee and $163 to reimburse the Department for the cost of this Federal Register notice. The lessee has met all the requirements for reinstatement of the lease as set out in Sections 31(d) and (e) of the Mineral Lands Leasing Act of 1920 (30 U.S.C. 188), and the BLM is proposing to reinstate lease WYW164359 effective October 1, 2009, under the original terms and conditions of the lease and the increased rental and royalty rates cited above. The BLM has not issued a valid lease affecting the lands.

Julie L. Weaver,
Chief, Branch of Fluid Minerals Adjudication.

[FR Doc. 2010-10294 Filed 4-30-10; 8:45 am]

BILLING CODE 4310-22-P